DEPARTMENT OF LABOR

Pension and Welfare Benefits Administration

[Exemption Application No. D-10946]

Notice of Proposed Individual Exemption to Amend Prohibited Transaction Exemption (PTE) 99-45, Involving Donaldson, Lufkin & Jenrette Securities Corporation (DLJ), Located in New York, NY

AGENCY: Pension and Welfare Benefits Administration, Department of Labor (the Department).

ACTION: Notice of technical correction.

On September 7, 2001, the Department published, in the Federal Register (66 FR 46826), a notice of proposed exemption amending PTE 99-45 (64 FR 61138, November 9, 1999), a securities exemption that had been issued to certain broker-dealer foreign affiliates (the Foreign Affiliates) of DLJ based in the United Kingdom and Australia. If granted, the proposed exemption would expand the scope of PTE 99-45 to include current and future Foreign Affiliates of Credit Suisse First Boston Corporation (CSFB), also located in the United Kingdom and Australia. CSFB is an affiliate of DLJ. The proposed exemption would be effective as of November 3, 2000.

On page 46827 of the proposed exemption, in the section captioned “Supplementary Information,” the Department hereby amends the proposal by inserting the following paragraph immediately preceding the final paragraph of that section:

However, to provide certainty as to the scope of the exemption, the Applicants request that PTE 99-45 be amended in order that it may also apply to CSFB and its current and future Foreign Affiliates in the United Kingdom and Australia. In this regard, the Applicants state that CSFB or a Foreign Affiliate of CSFB will be subject to the same terms and conditions set forth in PTE 99-45.

In addition, on page 46827 of the proposal, in the section captioned “Notice to Interested Persons,” the Department is amending the termination date for the comment period from “30 days” from the date of publication of the proposed exemption in the Federal Register to “45 days” from such publication date. The revised time frame will then conform with the October 22, 2001 final date for the receipt of comments and hearing requests referenced on page 46827 in the Dates section of the proposal.

FOR FURTHER INFORMATION CONTACT: Ms. Jan D. Broady of the Department at (202) 219-8881. (This is not a toll-free number.)

Signed at Washington, DC, this 11th day of September, 2001.
Ivan L. Strasfeld,
Director of Exemption Determinations, Pension and Welfare Benefits Administration, U.S. Department of Labor.

[FR Doc. 01-23156 Filed 9-14-01; 8:45 am]

BILLING CODE 4510-29-P